FEDERAL RESERVE SYSTEM

Change in Bank Control Notices; Formations of, Acquisitions by, and Mergers of Bank Holding Companies; Correction

This notice corrects a notice (FR Doc. 2011-5166) published on page 12739 of the issue for Tuesday, March 8, 2011.

Under the Federal Reserve Bank of Dallas heading, the entry for Comerica, Inc., Dallas, Texas, is revised to read as follows:

A. Federal Reserve Bank of Dallas (E. Ann Worthy, Vice President) 2200 North Pearl Street, Dallas, Texas 75201-2272:

1. Comerica, Inc., Dallas, Texas; to acquire through Comerica Bayou Acquisition Corporation, 100 percent of the voting shares of Sterling Bancshares, Inc., and thereby indirectly acquire Sterling Bank, both of Houston, Texas.

Comments on this application must be received by April 1, 2011.

Board of Governors of the Federal Reserve System, March 10, 2011.
Robert deV. Frierson,
Deputy Secretary of the Board.

[FR Doc. 2011-5991 Filed 3-14-11; 8:45 am]

BILLING CODE 6210-01-P